DEPARTMENT OF AGRICULTURE

Forest Service

King Fire Restoration Project, Eldorado National Forest, Placer and El Dorado Counties, California

AGENCY: Forest Service, USDA.

ACTION: Notice of intent to prepare an environmental impact statement.

SUMMARY: The Eldorado National Forest proposes to restore portions of the King Fire of 2014. The proposed action includes hazard tree removal, fuel reduction, salvage logging, reforestation, road improvements, watershed improvements, and research.

DATES: Comments concerning the scope of the analysis must be received by January 23, 2015. The draft environmental impact statement is expected March 2015 and the final environmental impact statement is expected June 2015.

ADDRESSES: Send written comments to 100 Forni Road, Placerville, CA 95667, Attention: King Fire Restoration Project. Comments may also be sent via email to comments-pacificsouthwest-eldorado@fs.fed.us, or via facsimile to 530-621-5297.

FOR FURTHER INFORMATION CONTACT: Patricia Ferrell, Team Leader, Eldorado National Forest, 100 Forni Road, Placerville, CA 95667, phone 530-642-5146 or email to pferrell@fs.fed.us. A scoping package, maps and other information are online at: http://www.fs.fed.us/nepa/nepa_project_exp.php?project=45952.

Individuals who use telecommunication devices for the deaf (TDD) may call the Federal Information Relay Service (FIRS) at 1-800-877-8339 between 8 a.m. and 8 p.m., Eastern Time, Monday through Friday.

SUPPLEMENTARY INFORMATION:

General Background

The King Fire started September 13, 2104 and burned approximately 97,000 acres on the Eldorado National Forest and on private timberlands. The project area for this analysis is the approximately 63,000 acre portion of the King Fire on Eldorado National Forest lands within the Georgetown, Pacific, and Placerville Ranger Districts administrative boundary. The project area includes all or portions of 30 watersheds. The large high severity portions of this fire resulted in adverse effects to forest resources such as soil, riparian areas, and wildlife habitat, and killed thousands of trees that contribute to hazardous conditions for people and extremely high fuel loading over time.

Purpose and Need for Action

The underlying need(s) for this proposal include: Reduce the risk from falling dead, dying, and defective trees to the safety of forest visitors and workers, and of damaging private property, structures, and cultural resources; reduce accumulation of fuel over the long term in strategic fire management areas for the purpose of improving the ability to manage and control future fires; maintain the ecological integrity of post fire habitat while restoring diverse conifer forests and laying the foundation for resiliency into the future; expeditiously recover timber killed by the fire commensurate with available markets, for the purpose of generating funds to offset the cost of restoration activities and contribute to societal needs for wood products; take advantage of research opportunities to increase knowledge regarding the effects of large fires on the environment, how to reduce the risk of future fires, and how to restore resilient forests after fires; reduce existing and potential sources of soil movement and sedimentation to streams, and reduce large woody fuel accumulation in sensitive areas where a future fire is likely to have detrimental effects on soil, water, and cultural resources.

Proposed Action

In developing the proposed action, consideration was given to areas that burned with high severity outside the natural range of variation; exclusion of hardwood/shrub/grassland areas that would continue to persist without treatment; maximizing the probability of California spotted owl persistence within and adjacent to the King Fire, maintaining habitat suitable for fire obligate wildlife including the black-backed woodpecker, promoting a mosaic of post-fire vegetation important for species associated with early seral habitats, and minimizing impacts to the threatened Sierra Nevada yellow-legged frog and California red-legged frog; conifer seed dispersal and the need to plant trees in areas unlikely to naturally regenerate; identification of wildland urban interface defense zones where the focus is on protecting life and property; strategic fuel management zones to contain wildfire and facilitate prescribed fire; and generally eliminate steep slopes from the proposed action where treatments would be prohibitively expensive, and where treatment was not needed to meet other objectives of the project.

Areas identified for treatment are: approximately 1,200 acres in the wildland urban interface (WUI) defense zone where increasing fuel loads pose a hazard to community fire protection; approximately 7,300 acres within the fire management zone which are strategic areas identified to establish a safe and effective place for future fire suppression; approximately 5,600 acres in the forest resiliency area where reestablishment of conifer forests are desired, ecologically sustainable, and can be managed to have a high probability of surviving subsequent wildfire; other specific areas where treatment would occur for research and watershed improvement; and roads needing hazard tree removal (approximately 429 miles), repair, closure, and/or decommissioning.

Within Strategic Fuels Management Zones, WUI Defense Zones, and Forest Resiliency Areas, remove dead conifer trees using in excess of soil cover needs and wildlife snag retention levels needs. In the Forest Resiliency Areas, snags will generally be retained in two to five acre patches covering 15 to 20 percent of a treatment area and incorporating the largest snags available. No standing snags will be retained in WUI Defense Zones, and four large snags per acre up to 12sq. ft./acre basal area in a grouped configuration will be retained in Strategic Fire Management Zones. Trees to be removed have brown foliage or no foliage remaining as viewed from the ground. Mortality monitoring for tree removal may be conducted up to 4 years following the fire.

Within Hazard Areas, remove hazard trees along Forest Service system roads open to the public and roads needed for access to treatment areas, along private residential property, adjacent to structures, and in specific cultural resource sites identified by the archeologist. Hazard trees to be removed are dead and dying trees that have potential to reach the road or property and live trees that are sufficiently damaged or defective to pose a risk of falling within the next 5 years.

Methods include mechanical or other ground based logging on approximately 11,800 acres, skyline or helicopter logging on approximately 700 acres, hand treatments on approximately 700 acres, and mastication or machine piling on approximately 100 acres.

In areas identified above, the maximum desired surface fuel loading is 6-10 tons per acre of material <3″ diameter. In areas described above where additional treatment is needed to reduce fuel loading to the desired level or provide additional soil cover, tops, limbs, and unmerchantable boles of harvested trees, and small dead trees that are not removed using the logging methods described, would be treated by one or more of the following methods: cutting and scattering to within 18 inches of the ground, cutting and left in place, hand piling, mastication or chipping with a track mounted masticator or chipper; and/or cutting trees and piling using tractors or rubber tired machinery with brush rakes or grapples. Piles would be burned.

Within portions of watersheds determined to be at high risk of soil erosion and sedimentation which could negatively impact watershed resources, treatments include: Increasing groundcover using onsite or imported material (e.g. mastication, lop and scatter, mulching), obliteration of existing disturbances, and removal of excess woody material.

Planting of seedlings would occur on approximately 14,000 acres of conifer forest types where a forested community is the desired condition, but where natural regeneration of a desired species composition and density are not expected to occur within the next several decades, and where stands can reasonably be effectively and efficiently managed into the future. Planting strategies would be designed to maintain ecological integrity while balancing future climate projections, economics, long-term management feasibility, and desired conditions. Except in the limited circumstances where site preparation to treat residual fuels is not needed, salvage logging would be completed before planting takes place. At the time of planting, the planted seedlings would be released from competing vegetation by hand scraping a radius of 2 to 5 feet around the seedlings depending on competing vegetation and follow-up treatment planned. Follow-up manual and herbicide release of seedlings from competing vegetation would occur where competing vegetation is expected to reduce seedling survival or growth below an acceptable level. Proposed research projects are to study the effect of varying salvage and re-planting intensities on the fuel complex and native/non-native species abundance over time; study forest resilience after high-severity wildfire: the effect of snag density and distribution on the retention of forest ecosystem functions; and additional projects to be determined.

Responsible Official

Forest Supervisor, Eldorado National Forest.

Nature of Decision To Be Made

The decision to be made is whether to adopt and implement the proposed action, an alternative to the proposed action, or take no action to restore the King Fire area.

Scoping Process

This notice of intent initiates the scoping process, which guides the development of the environmental impact statement. A scoping open house will be held January 13, 2015 in Placerville, CA. Comments specific to the location, methods, and actions proposed are the most helpful.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: December 18, 2014.
Laurence Crabtree,
Forest Supervisor.

[FR Doc. 2014-30158 Filed 12-23-14; 8:45 am]

BILLING CODE 3410-11-P